ENVIRONMENTAL PROTECTION AGENCY

[FRL-7505-4]

Southern Solvents Superfund Site; Notice of Proposed Settlement

AGENCY: Environmental Protection Agency.

ACTION: Notice of proposed settlement.

SUMMARY: Under the Comprehensive Environmental Response, Compensation, and Liability Act, as amended (“CERCLA”), the United States Environmental Protection Agency (“EPA”) proposes to enter into a Prospective Purchaser Agreement (“PPA”) regarding the Southern Solvents Superfund Site in Tampa, Hillsborough County, Florida. EPA is proposing to enter into the PPA with AAA Diversified Services, Inc. Pursuant to the PPA, AAA Diversified Services, Inc., will pay the sum of $80,000 within 30 days of the effective date of the Agreement. EPA will consider public comments on the proposed settlement until June 30, 2003. EPA may withdraw from or modify the proposed settlement should such comments disclose facts or considerations which indicate the proposed settlement is appropriate, improper, or inadequate. Copies of the proposed settlement are available from: Ms. Paula V. Batchelor, U.S. EPA, Region 4, Sam Nunn Atlanta Federal Center, Waste Management Division, 61 Forsyth Street, SW., Atlanta, Georgia 30303. (404) 562-8887.

Written comments may be submitted to Ms. Batchelor within thirty (30) calendar days of the date of this publication.

Dated: May 9, 2003.
Archie Lee,
Chief, CERCLA Program Services Branch, Waste Management Division.

[FR Doc. 03-13429 Filed 5-28-03; 8:45 am]

BILLING CODE 6560-50-P